DEPARTMENT OF THE TREASURY

Office of the Comptroller of the Currency

BOARD OF GOVERNORS OF THE FEDERAL RESERVE SYSTEM

FEDERAL DEPOSIT INSURANCE CORPORATION

Office of Thrift Supervision

Agency Information Collection Activities: Proposed Extension of Information Collection; Comment Request

AGENCY: Office of the Comptroller of the Currency (OCC), Treasury; Board of Governors of the Federal Reserve System (Board); Federal Deposit Insurance Corporation (FDIC); and Office of Thrift Supervision (OTS), Treasury.

ACTION: Joint notice and request for comment.

SUMMARY: The OCC, Board, FDIC, and OTS (collectively, the Agencies), as part of their continuing effort to reduce paperwork and respondent burden, invite the general public and other Federal agencies to comment on the proposed extension, without revision, of their continuing information collections, as required by the Paperwork Reduction Act of 1995. The Agencies may not conduct or sponsor, and a respondent is not required to respond to, an information collection unless it displays a currently valid Office of Management and Budget (OMB) control number. Currently, the Agencies are soliciting comment concerning the proposed extension of OMB approval of the information collections contained in their respective CRA Sunshine (Disclosure and Reporting of CRA-Related Agreements) regulations.

DATES: Comments should be submitted by November 17, 2003.

ADDRESSES: Comments should be directed to the Agencies and the OMB Desk Officer for the Agencies as follows:

OCC: Office of the Comptroller of the Currency, Public Information Room, 250 E Street, SW., Mail Stop 1-5, Attention: 1557-0219, Washington, DC 20219. Due to delays in delivery of paper mail in the Washington area, commenters are encouraged to submit comments by fax or electronic mail. Comments may be sent by fax to (202) 874-4448, or by electronic mail to regs.comments@occ.treas.gov. You can inspect and photocopy comments at the OCC's Public Information Room. You can make an appointment to inspect the comments by calling (202) 874-5043.

Board: Written comments may be mailed to Jennifer J. Johnson, Secretary, Board of Governors of the Federal Reserve System, 20th Street and Constitution Avenue, NW., Washington, DC 20551. However, because paper mail in the Washington area and at the Board of Governors is subject to delay, please consider submitting your comments by electronic mail to regs.comments@federalreserve.gov, or faxing them to the Office of the Secretary at (202) 452-3819 or (202) 452-3102. Members of the public may inspect comments in Room M-P-500 between 9 a.m. and 5 p.m. on weekdays pursuant to 261.12, except as provided in 261.14, of the Board's Rules Regarding Availability of Information, 12 CFR 261.12 and 261.14.

FDIC: Steven F. Hanft, Paperwork Clearance Officer, Legal Division, Room MB-3064, Attention: Comments/Legal Division, Federal Deposit Insurance Corporation, 550 17th Street, NW., Washington, DC 20429. All comments should refer to “Community Reinvestment Act Regulation, 3064-0092.” Comments may be hand-delivered to the guard station at the rear of the 550 17th Street Building (located on F Street), on business days between 7 a.m. and 5 p.m. [Fax number (202) 898-3838; Internet address: comments@fdic.gov.] Comments may be inspected and photocopied in the FDIC Public Information Center, Room 100, 801 17th Street, NW., Washington, DC between 9 a.m. and 4:30 p.m. on business days.

OTS: Information Collection Comments, Chief Counsel's Office, Office of Thrift Supervision, 1700 G Street, NW., Washington, DC 20552, Attention: 1550-0105, Fax number (202) 906-6518, or e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

OMB Desk Officer for the Agencies: Joseph F. Lackey, Jr., Office of Information and Regulatory Affairs, Office of Management and Budget, New Executive Office Building, Room 10235, Washington, DC 20503, or e-mail to jlackeyj@omb.eop.gov.

FOR FURTHER INFORMATION CONTACT: You may request additional information from:

OCC: Jessie B. Dunaway, OCC Clearance Officer, (202) 874-5090, Legislative and Regulatory Activities Division, Office of the Comptroller of the Currency, 250 E Street, SW., Washington, DC 20219.

Board: Cynthia Ayouch, Federal Reserve Board Clearance Officer, (202) 452-3829, Division of Research and Statistics, Board of Governors of the Federal Reserve System, 20th and C Streets, NW., M/S 41, Washington, DC 20551.

FDIC: Steven F. Hanft, Paperwork Clearance Officer, (202) 898-3907, Legal Division, Federal Deposit Insurance Corporation, 550 17th Street, NW., Washington, DC 20429.

OTS: Marilyn K. Burton, OTS Clearance Officer, (202) 906-6467, Office of Thrift Supervision, 1700 G Street, NW., Washington, DC 20552.

SUPPLEMENTARY INFORMATION: Titles:

OCC: Disclosure and Reporting of CRA-Related Agreements (12 CFR 35).

Board: Disclosure and Reporting Requirements of CRA-Related Agreements (Reg G).

FDIC: CRA Sunshine (12 CFR 346).

OTS: CRA Sunshine (12 CFR 533).

OMB Control Numbers:

OCC: 1557-0219.

Board: 7100-0299.

FDIC: 3064-1039.

OTS: 1550-0105.

Type of Review: Extension, without revision, of a currently approved collection.

Form Number: None.

Abstract: This submission covers an extension of the Agencies' currently approved information collections in their regulations (12 CFR part 35 (OCC), 12 CFR part 207 (Board), 12 CFR part 346 (FDIC), and 12 CFR part 533 (OTS)). The submission involves no change to the regulations or to the information collection requirements.

The information collection requirements contained in the regulations are as follows:

Section _.6(b)(1) requires each nongovernmental entity or person (NGEP) and each insured depository institution or affiliate (IDI) that enters into a covered agreement to make a copy of the covered agreement available to any individual or entity upon request.

Section _.6(c)(1) requires each NGEP that is a party to a covered agreement to provide within 30 days after receiving a request from the relevant supervisory agency (1) a complete copy of the agreement; and (2) in the event the NGEP seeks confidential treatment of any portion of the agreement under FOIA, a copy of the agreement that excludes information for which confidential treatment is sought and an explanation justifying the request.

Sections _.6(d)(1)(i) and _6(d)(1)(ii) require each IDI within 60 days of the end of each calendar quarter to provide each supervisory agency with either (1) a complete copy of each covered agreement entered into by the IDI or affiliate during the calendar quarter; and in the event the IDI seeks confidential treatment of any portion of the agreement under FOIA, a copy of the agreement that excludes information for which confidential treatment is sought and an explanation justifying the request; or (2) a list of all covered agreements entered into by the IDI or affiliate during the calendar quarter.

Section _.6(d)(2) requires an IDI or affiliate to provide any relevant supervisory agency with a complete copy and public version of any covered agreement, if the IDI submits a list of their covered agreements pursuant to section _.6(d)(1)(ii).

Section _.7(b) requires each NGEP and IDI that is a party to a covered agreement to file an annual report with each relevant supervisory agency concerning the disbursement, receipt, and uses of funds or other resources under the covered agreement.

Section _.7(f)(2)(ii) requires an IDI that receives an annual report from a NGEP pursuant to section _.7(f)(2)(i) to file the report with the relevant supervisory agency or agencies on behalf of the NGEP within 30 days.

Section _.4(b) requires an IDI that is party to a covered agreement that concerns any activity described in section _4.(a) of a CRA affiliate to notify each NGEP that is a party to the agreement that the agreement concerns a CRA affiliate.

Current Actions

The agencies' proposed reduction in burden is due to a change in the method of estimating the burden. The initial estimate was based on the assumption that 50 percent of insured depository institutions regulated by the agencies are party to one covered agreement. The new estimate is more precise because it takes into account the actual number of IDIs or their affiliates that reported covered agreements to the agencies in 2001 and 2002. The number of NGEP respondents is based on an assumption that one NGEP is a party to each covered agreement.

Affected Public: Businesses or other for-profit; individuals.

Burden Estimates:

Estimated Number of Respondents:

OCC: 25 IDI; 337 NGEP

Board: 13 IDI; 78 NGEP

FDIC: 13 IDI; 36 NGEP

OTS: 24 IDI; 120 NGEP

Estimated Number of Responses:

OCC: 2,813

Board: 637

FDIC: 316

OTS: 984

Estimated Annual Burden Hours:

OCC: 3,899 hours

Board: 910 hours

FDIC: 501.6 hours

OTS: 1,416 hours

Frequency of Response: On occasion.

Comments

Comments submitted in response to this notice will be summarized in the request for OMB approval. All comments will become a matter of public record. Comments are invited on:

(a) Whether the collection is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: September 5, 2003.
Mark J. Tenhundfeld,
Assistant Director, Legislative and Regulatory Activities Division, Office of the Comptroller of the Currency.
By order of the Board of Governors of the Federal Reserve System, September 4, 2003.
Jennifer J. Johnson,
Secretary of the Board.
Dated at Washington, DC, this 5th day of September, 2003.
Federal Deposit Insurance Corporation.
Robert E. Feldman,
Executive Secretary.
Dated: September 10, 2003.
By the Office of Thrift Supervision.
James E. Gilleran,
Director.

[FR Doc. 03-23802 Filed 9-17-03; 8:45 am]

BILLING CODE 4810-33-P, 6210-01-P, 6714-01-P, 6720-01-P